DEPARTMENT OF ENERGY

Federal Energy Regulatory Commission

Combined Notice of Filings # 1

September 9, 2010.

Take notice that the Commission received the following exempt wholesale generator filings:

Docket Numbers: EG10-67-000.

Applicants: Chestnut Flats Wind, LLC.

Description: Self-Certification of Exempt Wholesale Generator of Chestnut Flats Wind, LLC.

Filed Date: 09/09/2010.

Accession Number: 20100909-5062.

Comment Date: 5 p.m. Eastern Time on Thursday, September 30, 2010.

Take notice that the Commission received the following electric rate filings:

Docket Numbers: ER06-1331-006.

Applicants: CalPeak Power LLC, CalPeak Power—Panoche LLC, CalPeak Power—Vaca Dixon LLC, CalPeak Power—El Cajon LLC, CalPeak Power—Enterprise LLC, CalPeak Power—Border LLC, Tyr Energy LLC.

Description: CalPeak Power LLC submits supplemental information.

Filed Date: 08/24/2010.

Accession Number: 20100824-5134.

Comment Date: 5 p.m. Eastern Time on Tuesday, September 14, 2010.

Docket Numbers: ER10-566-001; ER08-1255-003; ER07-1106-009; ER08-1255-004.

Applicants: ArcLight Energy Marketing, LLC, Oak Creek Wind Power, LLC, Coso Geothermal Power Holdings, LLC.

Description: Coso Geothermal Power Holdings, LLC and Oak Creek Wind Power, LLC submits Supplement to Updated Market Power Analysis for the Southwest Region.

Filed Date: 09/08/2010.

Accession Number: 20100908-5162.

Comment Date: 5 p.m. Eastern Time on Wednesday, September 29, 2010.

Docket Numbers: ER10-1816-001.

Applicants: The Dayton Power and Light Company.

Description: The Dayton Power and Light Company submits tariff filing per 35: FERC Rate Schedule No. 42, Village of Arcanum to be effective 9/9/2010.

Filed Date: 09/09/2010.

Accession Number: 20100909-5149.

Comment Date: 5 p.m. Eastern Time on Thursday, September 30, 2010.

Docket Numbers: ER10-2453-000.

Applicants: Icetec.

Description: Icetec, Inc submits Petition for Acceptance of Initial Tariff, Waivers and Blanket Authority.

Filed Date: 08/30/2010.

Accession Number: 20100830-0205.

Comment Date: 5 p.m. Eastern Time on Monday, September 20, 2010.

Docket Numbers: ER10-2454-000.

Applicants: Westar Energy, Inc.

Description: Western Resources, Inc submits Notice of Cancellation of Non- Firm Point-to-Point Transmission Service Agreements.

Filed Date: 08/30/2010.

Accession Number: 20100830-0204.

Comment Date: 5 p.m. Eastern Time on Monday, September 20, 2010.

Docket Numbers: ER10-2456-000.

Applicants: California Independent System Operator Corporation.

Description: California Independent System Operator Corporation submits tariff filing per 35: 2010-08-30 CAISO Financial Security Deposit Compliance EL10-15 to be effective 7/1/2010.

Filed Date: 08/30/2010.

Accession Number: 20100830-5145.

Comment Date: 5 p.m. Eastern Time on Monday, September 20, 2010.

Docket Numbers: ER10-2550-000.

Applicants: California Independent System Operator Corporation.

Description: California Independent System Operator Corporation submits tariff filing per 35.13(a)(2)(iii: 2010-09-07 Amd 2 to CAISO Service Agreement 798 to be effective 9/28/2010.

Filed Date: 09/07/2010.

Accession Number: 20100907-5134.

Comment Date: 5 p.m. Eastern Time on Tuesday, September 28, 2010.

Docket Numbers: ER10-2551-000.

Applicants: Baldwin Wind, LLC.

Description: Baldwin Wind, LLC submits tariff filing per 35.12: Baldwin Wind, LLC MBR Application FINAL to be effective 10/15/2010.

Filed Date: 09/07/2010.

Accession Number: 20100907-5136.

Comment Date: 5 p.m. Eastern Time on Tuesday, September 28, 2010.

Docket Numbers: ER10-2565-000.

Applicants: MidAmerican Energy Company.

Description: MidAmerican Energy Company submits a Notice of Cancellation of the Partial Requirements Wholesale Service Agreement.

Filed Date: 09/08/2010.

Accession Number: 20100909-0202.

Comment Date: 5 p.m. Eastern Time on Wednesday, September 29, 2010.

Docket Numbers: ER10-2566-000.

Applicants: Duke Energy Carolinas, LLC.

Description: Duke Energy Carolinas, LLC submits tariff filing per 35.12: DEC Baseline Filing to be effective 9/9/2010.

Filed Date: 09/09/2010.

Accession Number: 20100909-5016.

Comment Date: 5 p.m. Eastern Time on Thursday, September 30, 2010.

Docket Numbers: ER10-2567-000.

Applicants: Kit Carson Windpower, LLC.

Description: Kit Carson Windpower, LLC submits tariff filing per 35.12: Market Based Rate Application to be effective 10/1/2010.

Filed Date: 09/09/2010.

Accession Number: 20100909-5037.

Comment Date: 5 p.m. Eastern Time on Thursday, September 30, 2010.

Docket Numbers: ER10-2568-000.

Applicants: Chestnut Flats Wind, LLC.

Description: Chestnut Flats Wind, LLC submits tariff filing per 35.12: Market-Based Rate Tariff to be effective 11/15/2010.

Filed Date: 09/09/2010.

Accession Number: 20100909-5052.

Comment Date: 5 p.m. Eastern Time on Thursday, September 30, 2010.

Docket Numbers: ER10-2569-000.

Applicants: New York Independent System Operator, Inc.

Description: New York Independent System Operator, Inc. submits tariff filing per 35.13(a)(2)(iii: 205 Filing—RS 1 provisions—Messonnier/Lampi 09/09/10 to be effective 11/8/2010.

Filed Date: 09/09/2010.

Accession Number: 20100909-5075.

Comment Date: 5 p.m. Eastern Time on Thursday, September 30, 2010.

Docket Numbers: ER10-2570-000.

Applicants: Shady Hills Power Company LLC.

Description: Shady Hills Power Company LLC submits tariff filing per 35.12: Shady Hills Power Company LLC Market Based Rate Tariff to be effective 9/9/2010.

Filed Date: 09/09/2010.

Accession Number: 20100909-5096.

Comment Date: 5 p.m. Eastern Time on Thursday, September 30, 2010.

Docket Numbers: ER10-2571-000.

Applicants: Wisconsin Electric Power Company.

Description: Wisconsin Electric Power Company submits tariff filing per 35: Coordination Sales Tariff Baseline Filing to be effective 9/9/2010.

Filed Date: 09/09/2010.

Accession Number: 20100909-5101.

Comment Date: 5 p.m. Eastern Time on Thursday, September 30, 2010.

Docket Numbers: ER10-2572-000.

Applicants: Wisconsin Electric Power Company.

Description: Wisconsin Electric Power Company submits tariff filing per 35: Tariff for Sales of Ancillary Services Baseline Filing to be effective 9/9/2010.

Filed Date: 09/09/2010.

Accession Number: 20100909-5132.

Comment Date: 5 p.m. Eastern Time on Thursday, September 30, 2010.

Docket Numbers: ER10-2573-000.

Applicants: Portland General Electric Company.

Description: Portland General Electric Company submits tariff filing per 35.12: Baseline Filing of PGE's OATT Fourth Revised Volume No. 8 to be effective 9/10/2010.

Filed Date: 09/09/2010.

Accession Number: 20100909-5146.

Comment Date: 5 p.m. Eastern Time on Thursday, September 30, 2010.

Docket Numbers: ER10-2574-000.

Applicants: BP West Coast Products LLC.

Description: BP West Coast Products LLC submits tariff filing per 35.12: Baseline MBR Tariff Filing of BP West Coast Products LLC to be effective 9/10/2010.

Filed Date: 09/09/2010.

Accession Number: 20100909-5147.

Comment Date: 5 p.m. Eastern Time on Thursday, September 30, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25054 Filed 10-5-10; 8:45 am]

BILLING CODE 6717-01-P